DEPARTMENT OF STATE

[Public Notice 9046]

Determination by the Secretary of State Relating to Iran Sanctions

This notice is to inform the public that the Secretary of State determined on February 19, 2015, pursuant to Section 1245(d)(4)(D) of the National Defense Authorization Act for Fiscal Year 2012 (NDAA), (Pub. L. 112-81), as amended, that as of February 19, 2015, each of the following countries: Belgium, the Czech Republic, France, Germany, Greece, Italy, the Netherlands, Poland, Spain, Sri Lanka, and the United Kingdom have significantly reduced their crude oil purchases from Iran, or have maintained their crude oil purchases from Iran at zero, over the preceding 180-day period.

Dated: February 19, 2015.
Mary Burce Warlick,
Principal Deputy Assistant Secretary, Bureau of Energy Resources, U.S. Department of State.

[FR Doc. 2015-04033 Filed 2-25-15; 8:45 am]

BILLING CODE 4710-07-P